DEPARTMENT OF TRANSPORTATION

Federal Aviation Administration

14 CFR Part 71

Docket No. FAA-2011-0232; Airspace Docket No. 11-AWA-3

RIN 2120-AA66

Modification of Class B Airspace; Seattle, WA

AGENCY: Federal Aviation Administration (FAA), DOT.

ACTION: Final rule.

SUMMARY: This action modifies Seattle, WA Class B airspace to ensure the containment of large turbine-powered aircraft operating to and from the Seattle-Tacoma International Airport. The FAA is taking this action to enhance safety, improve the flow of air traffic, and reduce the potential for midair collision in the Seattle, WA terminal area.

DATES: Effective Date: 0901 UTC, December 15, 2011. The Director of the Federal Register approves this incorporation by reference action under 1 CFR part 51, subject to the annual revision of FAA Order 7400.9 and publication of conforming amendments.

FOR FURTHER INFORMATION CONTACT: Paul Gallant, Airspace, Regulations, and ATC Procedures Group, Office of Airspace Services, Federal Aviation Administration, 800 Independence Avenue, SW., Washington, DC 20591; telephone: (202) 267-8783.

SUPPLEMENTARY INFORMATION:

History

On June 17, 2011, the FAA published in the Federal Register a notice of proposed rulemaking (NPRM) to modify the Seattle, WA Class B airspace area (76 FR 35363). Interested parties were invited to participate in this rulemaking effort by submitting written comments on the proposal. Fourteen written comments were received in response to the NPRM. One comment did not pertain to the Seattle Class B proposal, addressing instead a Los Angeles, CA airspace issue. The Los Angeles, CA airspace comment was forwarded to the appropriate office for review. All other comments received were considered before making a determination on the final rule.

Discussion of Comments

Six commenters supported the proposed Class B airspace changes.

One commenter wrote that the use of letters such as “O” and “Q” to identify sections in the Class B description could lead to confusion because the letters look too similar. The FAA understands the potential misidentification issue; however, the letters are used only for rulemaking purposes to identify the various subareas of the Class B airspace. The letters are not published on the Sectional or Terminal Area Chart depictions, so this should not result in pilot confusion.

One commenter said the method of defining the lateral boundaries using DME from a central VOR (SEA) should be used to define the new Class B boundaries instead of using latitude/longitude fixes to allow DME-equipped aircraft to find the boundary more easily. The Class B description in this rule uses both methods. Initially, the FAA considered using radials and DME to define the airspace, but that method would have resulted in the designation of more Class B airspace than necessary to contain Seattle-Tacoma International Airport traffic. Therefore, the primary description method uses geographic coordinates (latitude and longitude). Wherever possible, however, the airspace corners, intersections and more central, lower altitude sections are described with a combination of latitude/longitude and radial/DME.

Four commenters suggested changes to accommodate paragliding and hang gliding operations at Tiger Mountain. The changes included raising the floor of Area J from the proposed 5,000 feet mean sea level (MSL) to 6,000 feet MSL, revising the northeast corner of Area J to expand the 6,000-foot area to cover most of the flight activity, or creating a cutout for the paragliding and hang gliding operations. Another suggestion was made to incorporate a soaring cylinder with a 3-nautical mile (NM) radius, up to 6,000 feet MSL to accommodate current flight activities. The FAA considered these suggestions but chose not to adopt them because raising the Class B floor to 6,000 feet MSL, or creating a cutout or cylinder, would impact the downwind leg for arrival traffic into Seattle-Tacoma International Airport as well as eastbound departure traffic flows from Seattle. This would result in difficulty containing arriving and departing aircraft within Class B airspace. Containment of turbine-powered aircraft within Class B airspace is required by FAA directives and is a prime safety consideration. Additionally, the Tiger Mountain launch site is in close proximity to Area M where the Class B floor remains at 6,000 feet MSL. Paragliders should either be at a low level just climbing off the launch site or be in a descending configuration to land at the landing zone when they are operating in Area J.

One commenter questioned the usefulness of the 7,000-foot Class B ceilings in the southwest and southeast sections compared to those in the northern part of the Class B airspace where pilots can transition the area above the Class B from multiple directions. The commenter further stated that there is no reason for the varied ceilings on the south end because these areas abut Class B areas with a 10,000-foot ceiling.

Over fifty percent of the inbound IFR traffic to Seattle-Tacoma International Airport comes from the south. Considering the FAA requirement to contain turbine-powered aircraft within Class B airspace and due to high terrain, there was less flexibility in the airspace design on the south side as compared to the north side. The FAA decided that Class B airspace was not needed above 7,000 feet MSL in the southwest and southeast sections based on the arrival and departure profiles, hence the lower ceiling in those areas.

Another commenter suggested that the upper limit of the Seattle Class B airspace be lowered from 10,000 feet MSL to 8,000 feet MSL to allow general aviation easier access across the airspace.

This Class B airspace area modification was initiated to ensure the containment of large turbine-powered aircraft within Class B airspace. It was determined that an 8,000-foot ceiling would not contain those aircraft as required by FAA directives. This rule, however, does establish dual ceilings of 10,000 feet MSL and 7,000 feet MSL for different sections of the Seattle Class B airspace. While there are other Class B locations with ceilings lower than 10,000 feet MSL, each Class B design is individually tailored to meet local requirements including, but not limited to, terrain, traffic volume, IFR procedures serving the primary airport, existing traffic flows through the area, etc.

One commenter contended that a 3,149-foot MSL obstacle, located 1.5 NM east of the gliding area, makes the 5,000-foot MSL airspace floor unnecessary in that vicinity.

The obstacle in question lies beneath Area M where the floor of Class B airspace is 6,000 feet MSL. Therefore, the obstacle is not a factor.

Differences From the NPRM

Editorial corrections have been made to the wording of the Seattle Class B airspace description for standardization. These corrections include adding “lat.” and “long.” before all geographic coordinates, adding the words “bounded by a line beginning at * * *” where appropriate, and replacing the word “clockwise” with a direction (such as, “thence east to * * *”) where an arc is not referenced. These corrections are to standardize the format only. Also, in the NPRM description of Area E, a typographical error that listed the “40-mile” arc of the SEA VORTAC is corrected to read the “4-mile” arc. Radials listed in this rule are stated in degrees relative to True North. With the exception of the above noted changes and minor editorial corrections, this rule is the same as that published in the NPRM.

The Rule

The FAA is amending 14 CFR part 71 to modify the Seattle, WA, Class B airspace area. This action (depicted on the attached chart) reduces the overall size of the Seattle Class B airspace by approximately 194 square miles and incorporates two different ceiling altitudes. The rule expands the eastern Class B boundary to ensure containment of turbojet aircraft, but eliminates unnecessary outer (arrival route) wings that currently extend to 30 NM. Where possible, certain Class B boundaries are aligned with existing VORTAC and geographical features resulting in improved boundary definition. The following are the revisions for section of the Seattle Class B airspace area:

Area A. 2 NM arc northeast of Seattle-Tacoma International Airport is straightened and realigned with the border of the Renton Class D airspace area. The area just south of SEA VORTAC is moved slightly to the west to better contain arrivals to Seattle-Tacoma International Airport runway 34L and departures from runway 16R.

Area B. No change.

Area C. Southeast corner is moved to the west, and floor of airspace is raised from 1,600 feet to 1,800 feet.

Area D. No change.

Area E. Southeast border of airspace is moved slightly to the west.

Area F. No change.

Area G. 2 NM arc northeast of Seattle-Tacoma International Airport is straightened and realigned with the border of the Renton Class D airspace area.

Area H. Entire airspace is moved east slightly. Northern and southern boundaries are depicted as angles instead of curves.

Area I. Floor is lowered to 4,000 feet and the area is narrowed and described with straight lines instead of curved lines.

Area J. New area joins existing areas that have floors of 5,000 feet.

Area K. New area with a floor of 5,000 feet.

Area L. Area narrowed and described with straight lines instead of curved lines.

Area M. Area expanded slightly on the northeast and southeast corners and described with straight lines instead of curved lines.

Area N. New area floor is raised from 3,000 feet to 4,000 feet in part of area, and lowered from 5,000 feet to 4,000 feet in part of area. Boundary described by straight lines.

Area O. Area is considerably smaller. Floor is lowered from 6,000 feet to 5,000 feet in part of area, and raised from 3,000 feet to 5,000 feet in part of area. Ceiling is lowered from 10,000 feet to 7,000 feet.

Area P. Area is considerably smaller. Floor is lowered from 6,000 feet to 5,000 feet in part of area and raised from 3,000 feet to 5,000 feet in part of area. Ceiling is lowered from 10,000 feet to 7,000 feet.

Area Q. Area is reshaped with straight lines instead of curved lines. Floor is lowered from 6,000 feet and 8,000 feet to 5,000 feet. Ceiling is lowered from 10,000 feet to 7,000 feet.

Area R. Size of area is significantly reduced and described by straight lines instead of curved lines.

Area S. Area is reshaped with straight lines instead of curved lines.

Area T. Area is reshaped with straight lines instead of curved lines and the ceiling is lowered from 10,000 feet to 7,000 feet.

The above changes ensure the containment of large turbine-powerd aircraft within Class B airspace as required by FAA directives.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Paperwork Reduction Act

The Paperwork Reduction Act of 1995 (44 U.S.C. 3507(d)) requires that the FAA consider the impact of paperwork and other information collection burdens imposed on the public. We have determined that there is no new information collection requirement associated with this final rule.

Regulatory Evaluation Summary

Changes to Federal regulations must undergo several economic analyses. First, Executive Order 12866 and Executive Order 13563 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this rule.

Department of Transportation Order DOT 2100.5 prescribes policies and procedures for simplification, analysis, and review of regulations. If the expected cost impact is so minimal that a proposed or final rule does not warrant a full evaluation, this order permits that a statement to that effect and the basis for it be included in the preamble if a full regulatory evaluation of the cost and benefits is not prepared. Such a determination has been made for this rule. The reasoning for this determination follows.

After consultation with a diverse cross-section of stakeholders that participated in the Ad Hoc Committee to develop the recommendations contained in the proposed rule, and a review of the recommendations and comments, the FAA expects that this rule will result in minimal cost. This rule will enhance safety by containing all instrument approach procedures, and associated traffic patterns, within the confines of Class B airspace and better segregate IFR aircraft arriving/departing Seattle-Tacoma International Airport and VFR aircraft operating in the vicinity of the Seattle Class B airspace.

This rule will enhance safety, reduce the potential for a midair collision in the Seattle area and would improve the flow of air traffic. As such, we estimate a minimal impact with substantial positive net benefits. The FAA has, therefore, determined that this rule is not a “significant regulatory action” as defined in section 3(f) of Executive Order 12866, and is not “significant” as defined in DOT's Regulatory Policies and Procedures.

Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

The FAA believes the rule will not have a significant economic impact on a substantial number of small entities as the economic impact is expected to be minimal. The FAA received comments indicating the rule could have a significant impact on a substantial number of small entities but the FAA believes the rule will accommodate these operators and not impose costs. The areas of interest for paragliding/hang gliding are the landing zone which is ¾ of a mile inside area J and the launch site which is 2 miles inside area M. The new rule would allow general aviation pilots to miss the paragliders launch site (inside area M) and their landing zone (inside area J) and go east where they can climb and maneuver outside of the Class B airspace. Area J's new floor would be reduced from 6,000 feet to 5,000 feet. By reducing the floor to 5,000 feet, the FAA can safely contain aircraft in Class B airspace. A currently active pilot outreach program will be used to educate pilots on the types of operations that may be encountered in Areas in J and M.

Therefore, the FAA Administrator certifies that this final rule will not have a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the effect of this final rule and determined that it will enhance safety and is not considered an unnecessary obstacle to trade.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $143.1 million in lieu of $100 million. This final rule does not contain such a mandate; therefore, the requirements of Title II of the Act do not apply.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of the Federal Aviation Administration Order 7400.9V, Airspace Designations and Reporting Points, dated August 9, 2011, and effective September 15, 2011, is amended as follows:

Paragraph 3000 Subpart B—class B airspace.

* * * * *

ANM WA B Seattle, WA [Revised]

Seattle-Tacoma International Airport (Primary Airport)

(Lat. 47°27′00″ N., Long. 122°18′42″ W.)

Seattle VORTAC (SEA)

(Lat. 47°26′07″ N., Long. 122°18′35″ W.)

Boundaries

Area A. That airspace extending upward from the surface to and including 10,000 feet MSL within an area bounded by a line beginning at the SEA 007° radial at 3.6 DME, thence to the SEA 007° radial at 4 DME, thence counterclockwise along the 4-mile arc of the SEA VORTAC to the intersection of the SEA 326° radial at the Puget Sound shoreline, thence south along the Puget Sound shoreline to the 2-mile arc of the SEA VORTAC, thence counterclockwise along the 2-mile arc of the SEA VORTAC to the SEA 202° radial, thence south to the SEA 197° radial at 4 DME, thence south to the SEA 192° radial at 6 DME, thence counterclockwise along the 6-mile arc of the SEA VORTAC to the SEA 163° radial, thence north to the SEA 159° radial at 4 DME, thence north to the SEA 146° radial at 2 DME, thence counterclockwise along the 2-mile arc of SEA VORTAC to the SEA 069° radial to the point of beginning.

Area B. That airspace extending upward from 1,100 feet MSL to and including 10,000 feet MSL within an area bounded by a line beginning at the SEA 007° radial at 4 DME, thence north along the SEA 007° radial to the 6-mile arc of the SEA VORTAC, thence counterclockwise along the 6-mile arc of the SEA VORTAC to the SEA 342° radial, thence south along the SEA 342° radial to the 4-mile arc of the SEA VORTAC, thence clockwise along the 4-mile arc of the SEA VORTAC to the point of beginning.

Area C. That airspace extending upward from 1,800 feet MSL to and including 10,000 feet MSL within an area bounded by a line beginning at the SEA 192° radial at 6 DME, thence south along the SEA 192° radial to the 12-mile arc of the SEA VORTAC, thence counterclockwise along the 12-mile arc of the SEA VORTAC to the SEA 166° radial, thence north to the SEA 163° radial at 8 DME, thence north to the SEA 163° radial at 6 DME, thence clockwise along the 6-mile arc of the SEA VORTAC to the point of beginning.

Area D. That airspace extending upward from 1,800 feet MSL to and including 10,000 feet MSL within an area bounded by a line beginning at the SEA 007° radial at 6 DME, thence counterclockwise along the 6-mile arc of the SEA VORTAC to the SEA 342° radial, thence northwest along the SEA 342° radial to the 12-mile arc of the SEA VORTAC, thence clockwise along the 12-mile arc of the SEA VORTAC to the SEA 007° radial, thence south along the SEA 007° radial to the point of beginning.

Area E. That airspace extending upward from 2,000 feet MSL to and including 10,000 feet MSL within an area bounded by a line beginning at the SEA 197° radial at 4DME, thence clockwise along the 4-mile arc of the SEA VORTAC to the SEA 326° radial, thence south along the Puget Sound shoreline to the 2-mile arc of the SEA VORTAC, thence counterclockwise along the 2-mile arc of the SEA VORTAC to the SEA 202° radial to the point of beginning.

Area F. That airspace extending upward from 2,000 feet MSL to and including 10,000 feet MSL within an area bounded by a line beginning at the SEA 342° radial at 4 DME, thence north along the SEA 342° radial to the Puget Sound shoreline, thence south along the Puget Sound shoreline to the SEA 326° radial at 4 DME, thence clockwise along the 4-mile arc of SEA VORTAC to the point of beginning.

Area G. That airspace extending upward from 2,000 feet MSL to and including 10,000 feet MSL within an area bounded by a line beginning at the SEA 007° radial at 3.6 DME, thence north along the SEA 007° radial to the 12-mile arc of the SEA VORTAC, thence clockwise along the 12-mile arc of the SEA VORTAC to the SEA 022° radial, thence south along the 022° radial to the 4-mile arc of the SEA VORTAC, thence clockwise along the 4-mile arc of the SEA VORTAC to the SEA 159° radial, thence north to the SEA 146° radial at 2 DME, thence counterclockwise along the 2-mile arc of the SEA VORTAC to the SEA 069° radial to the point of beginning.

Area H. That airspace extending upward from 3,000 feet MSL to and including 10,000 feet MSL within an area bounded by a line beginning at the SEA 338° radial at 20 DME, thence east to the SEA 023° radial at 20 DME, thence southeast to the SEA 033° radial at 16 DME, thence south to the SEA 135° radial at 12 DME, thence southwest to the SEA 157° radial at 18.3 DME, thence west to the SEA 200° radial at 18 DME, thence northwest to the SEA 212° radial at 15 DME, thence north to the SEA 335° radial at 18 DME to the point of beginning, excluding that airspace in the areas A through G.

Area I. That airspace extending upward from 4,000 feet MSL to and including 10,000 feet MSL within an area bounded by a line beginning at lat. 47°48′13″ N., long. 122° 27′59″ W., (SEA 344° radial at 23NM), thence east to lat. 47°47′59″ N., long. 122°08′02″ W. (SEA 018° radial at 23NM), thence south to lat. 47°44′31″ N., long. 122°07′00″ W., (SEA 023° radial at 20NM), thence west to lat. 47°44′39″ N., long. 122°29′41″ W. (SEA 338° radial at 20NM) to the point of beginning.

Area J. That airspace extending upward from 5,000 feet MSL to and including 10,000 feet MSL within an area bounded by a line beginning at lat. 47°39′31″ N., long. 122°05′41″ W., (SEA 033° radial at 16NM), thence southeast to lat. 47°37′49″ N., long. 121°59′59″ W., (SEA 047° radial at 17.2NM), thence south to lat. 47°17′36″ N., long. 122°00′04″ W., (SEA 124° radial at 15.2NM), thence west to lat. 47°17′38″ N., long. 122°06′07″ W., (SEA 135° radial at 12NM) to the point of beginning.

Area K. That airspace extending upward from 5,000 feet MSL to and including 10,000 feet MSL within an area bounded by a line beginning at lat. 47°38′53″ N., long. 122°36′14″ W., (SEA 317° radial at 17.5NM), thence northeast to lat. 47°42′25″ N., long. 122°29′50″ W. (SEA 335° radial at 18NM), thence south to lat 47°13′24″ N., long. 122°30′14″ W. (SEA 212° radial at 15NM), thence north to lat. 47°16′09″ N., long. 122°36′01″ W. (SEA 230° radial at 15.5NM) to the point of beginning.

Area L. That airspace extending upward from 6,000 feet MSL to and including 10,000 feet MSL within an area bounded by a line beginning at lat. 47°39′00″ N., long. 122°43′03″ W. (SEA 308° radial at 21NM), thence east to lat. 47°38′53″ N., long. 122°36′14″ W. (SEA 317° radial at 17.5NM), thence south to lat. 47°16′09″ N., long. 122°36′01″ W. (SEA 230° radial at 15.5NM), thence northwest to lat. 47°18′46″ N., long./122°42′45″ W. (SEA 246° radial at 18NM) to the point of beginning.

Area M. That airspace extending upward from 6,000 feet MSL to and including 10,000 feet MSL within an area bounded by a line beginning at lat. 47°37′49″ N., long. 121°59′59″ W. (SEA 047° radial at 17.2NM), thence east to lat. 47°36′45″ N., long. 121°56′03″ W. (SEA 055° radial at 18.6NM), thence east to lat. 47°35′39″ N., long. 121°51′58″ W. (SEA 062° radial at 20.4NM), thence south to lat. 47°18′18″ N., long. 121°51′40″ W. (SEA 113° radial at 19.9NM), thence southwest to lat. 47°17′28″ N., long. 121°55′42″ W. (SEA 119° radial at 17.8NM), thence west to lat. 47°17′36″ N., long. 122°00′04″ W. (SEA 124° radial at 15.2NM) to the point of beginning.

Area N. That airspace extending upward from 4,000 feet MSL to and including 10,000 feet MSL within an area bounded by a line beginning at lat. 47°09′13″ N., long. 122°27′36″ W. (SEA 200° radial at 18NM), thence east to lat. 47°09′17″ N., long. 122°08′06″ W. (SEA 157° radial at 18.3NM), thence south to lat. 47′06″ 16′N., long. 122°08′34″ W. (SEA 161° radial at 21NM), thence west to lat. 47°06′20″ N., long. 122°26′21″ W. (SEA 195° radial at 20.5NM) to the point of beginning.

Area O. That airspace extending upward from 5,000 feet MSL to and including 7,000 feet MSL within an area bounded by a line beginning at lat. 47°18′46″ N., long. 122°42′45″ W. (SEA 246° radial at 18NM), thence southeast to lat. 47°16′09″ N., long. 122°36′01″ W. (SEA 230° radial at 15.5NM), thence southeast to lat. 47°13′24″ N., long. 122°30′14″ W. (SEA 212° radial at 15NM), thence south to lat. 47°09′13″ N., long. 122°27′36″ W. (SEA 200° radial at 18NM), thence south to lat. 47°06′20″ N., long. 122°26′21″ W. (SEA 195° radial at 20.5NM), thence southwest to lat. 47°02′35″ N., long. 122°30′26″ W. (SEA 199° radial at 24.9NM), thence northwest to lat. 47°10′55″ N., long. 122°40′04″ W. (SEA 224° radial at 21.1NM) to the point of beginning.

Area P. That airspace extending upward from 5,000 feet MSL to and including 7,000 feet MSL within an area bounded by a line beginning at lat. 47°17′38″ N., long. 122°06′07″ W. (SEA 135° radial at 12NM), thence east to lat. 47°17′36″ N., long. 122°00′04″ W. (SEA 124° radial at 15.2NM), thence east to lat. 47°17′28″ N., long. 121°55′42″ W. (SEA 119° radial at 17.8NM), thence southwest to lat. 47°14′03″ N., long. 121°58′57″ W. (SEA 132°degree radial at 18NM), thence south to lat. 47°11′46″ N., long. 121°58′59″ W. (SEA 137° radial at 19.6NM), thence southwest to lat. 47°02′38″ N., long. 122°06′04″ W. (SEA 160° radial at 25NM), thence northwest to lat. 47°06′16″ N., long. 122°08′34″ W. (SEA 161° radial at 21NM), thence north to lat. 47°09′17″ N., long. 122°08′06″ W. (SEA 157° degree radial at 18.3NM) to the point to beginning.

Area Q. That airspace extending upward from 5,000 feet MSL to and including 7,000 feet MSL within an area bounded by a line beginning at lat. 47°51′15″ N., long. 122°30′00″ W. (SEA 343° radial at 26.3NM), thence east to lat. 47°51′09″ N., long. 122°05′46″ W. (SEA 019° radial at 26.5NM), thence southeast to lat. 47°41′54″ N., long. 121°55′57″ W. (SEA 044° radial at 22NM), thence south to lat. 47°36′45″ N., long 121°56′03″ W. (SEA 055° radial at 18.6NM), thence northwest to lat. 47°37′49″ N., long. 121°59′59″ W. (SEA 047° radial at 17.2NM), thence northwest to lat. 47°39′31″ N., long. 122°05′41″ W. (SEA 033° radial at 16NM), thence north to lat. 47°44′31″ N., long. 122°07′00″ W. (SEA 023° radial at 20NM), thence north to lat. 47°47′59″ N., long. 122°08′02″ W. (SEA 018° radial at 23NM) thence west to lat. 47°48′13″ N., long. 122°27′59″ W. (SEA 344° radial at 23NM), thence south to lat. 47°44′39″ N., long. 122°29′41″ W. (SEA 338° radial at 20NM), thence south to lat. 47°42′25″ N., long. 122°29′50″ W. (SEA 335° radial at 18NM), thence southwest to lat. 47°38′53″ N., long. 122°36′14″ W. (SEA 317° radial at 17.5NM), thence west to lat. 47°39′00″ N., long. 122°43′03″ W. (SEA 308° radial at 21NM) to the point of beginning.

Area R. That airspace extending upward from 6,000 feet MSL to and including 7,000 feet MSL within an area bounded by a line beginning at lat. 47°55′27″ N., long. 122°27′04″ W., (SEA 349° radial 29.9NM), thence east to lat. 47°55′31″ N., long. 122°08′29″ W., (SEA 013° radial at 30.2NM), thence southeast to lat. 47°51′09″ N., long. 122°05′46″ W., (SEA 019° radial at 26.5NM), thence west to lat. 47°51′15″ N., long. 122°30′00″ W., (SEA 343° radial at 26.3NM) to the point of beginning.

Area S. That airspace extending upward from 5,000 feet MSL to and including 10,000 feet MSL within an area bounded by a line beginning at lat. 47°06′20″ N., long. 122°26′21″ W., (SEA 195° radial at 20.5NM), thence east to lat. 47°06′16″ N., long. 122°08′34″ W., (SEA 161° radial at 21NM), thence southeast to lat. 47°02′38″ N., long. 122°06′04″ W., (SEA 160° radial at 25NM), thence west to lat. 47°02′35″ N., long. 122°30′26″ W. (SEA 199° radial at 24.9NM) to the point of beginning.

Area T. That airspace extending upward from 6,000 feet MSL to and including 7,000 feet MSL within an area bounded by a line beginning at lat. 47°02′35″ N., long. 122°30′26″ W. (SEA 199° radial at 24.9NM), thence east to lat. 47°02′38″ N., long. 122°06′04″ W., (SEA 160° radial at 25NM), thence southwest to lat. 46°57′13″ N., long. 122°08′03″ W., (SEA 166° radial at 29.8NM), thence west to lat. 46°57′05″ N., long. 122°27′35″ W. (SEA 192° radial at 29.7NM), to the point of beginning.

Issued in Washington, DC, on October 17, 2011.
Gary A. Norek,
Acting Manager, Airspace, Regulations and ATC Procedures Group.

BILLING CODE 4910-13-P

[FR Doc. 2011-27367 Filed 10-24-11; 8:45 am]

BILLING CODE 4910-13-C